DEPARTMENT OF TRANSPORTATION

Federal Aviation Administration

14 CFR Part 39

[Docket No. FAA-2004-19816; Directorate Identifier 2004-NM-231-AD; Amendment 39-13895; AD 2004-25-07]

RIN 2120-AA64

Airworthiness Directives; Airbus Model A330 and A340 Series Airplanes

AGENCY: Federal Aviation Administration (FAA), DOT.

ACTION: Final rule; request for comments.

SUMMARY: The FAA is adopting a new airworthiness directive (AD) for certain Airbus Model A330 and A340 series airplanes. This AD requires regularly performing a complete electrical shutdown of the airplane to reset the integrated standby instrument system (ISIS). This AD also provides an optional terminating action. This AD is prompted by reports indicating that an airplane lost the ISIS, then, during the same flight, lost all electronic instrument system (EIS) display units. We are issuing this AD to prevent loss of the ISIS, which, if combined with loss of all EIS display units, could reduce the flightcrew's situational awareness and contribute to loss of control of the airplane or impact with obstacles or terrain.

DATES: Effective December 27, 2004.

The incorporation by reference of certain publications listed in the AD is approved by the Director of the Federal Register as of December 27, 2004.

We must receive comments on this AD by February 7, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC. This docket number is FAA-2004-19816; the directorate identifier for this docket is 2004-NM-231-AD.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Technical information: Tim Backman, Aerospace Engineer, International Branch, ANM-116, FAA, Transport Airplane Directorate, 1601 Lind Avenue, SW., Renton, Washington 98055-4056; telephone (425) 227-2797; fax (425) 227-1149.

Plain language information: Marcia Walters, marcia.walters@faa.gov.

SUPPLEMENTARY INFORMATION: The Direction Generale de l'Aviation Civile (DGAC), which is the airworthiness authority for France, notified the FAA that an unsafe condition may exist on certain Airbus Model A330 and A340 series airplanes. The DGAC advises that an Airbus Model A340 series airplane lost the integrated standby instrument system (ISIS). During the same flight, all electronic instrument system (EIS) display units were also lost. Investigation revealed that the ISIS failure is caused by a time-counter fault that occurs after 145 hours of continuous power supply to the ISIS. Loss of the ISIS, if combined with loss of all EIS display units, could reduce the flightcrew's situational awareness and contribute to loss of control of the airplane or impact with obstacles or terrain.

The subject ISIS on certain Airbus Model A340 series airplanes is also installed on certain Airbus Model A330 series airplanes. Therefore, airplanes of both of these models may be subject to the identified unsafe condition.

Relevant Service Information

Airbus has issued Service Bulletins A330-34-3141 (for Airbus Model A330 series airplanes), A340-34-4145 (for Airbus Model A340-200 and -300 series airplanes), and A340-34-5016 (for Airbus Model A340-541 and -642 airplanes); all dated June 8, 2004. The service bulletins describe procedures for replacing the ISIS with an improved ISIS, which eliminates the need to regularly reset the ISIS. The actions specified in the service information, if accomplished, are intended to adequately address the unsafe condition.

Airbus Service Bulletins A330-34-3141, A340-34-4145, and A340-34-5016 refer to Thales Service Bulletin C16221D-34-002 as an additional source of service information.

FAA's Determination and Requirements of This AD

These airplane models are manufactured in France and are type certificated for operation in the United States under the provisions of 21.29 of the Federal Aviation Regulations (14 CFR 21.29) and the applicable bilateral airworthiness agreement. According to this bilateral airworthiness agreement, the DGAC has kept us informed of the situation described above. We have examined the DGAC's findings, evaluated all pertinent information, and determined that we need to issue an AD for products of this type design that are certificated for operation in the United States.

Therefore, we are issuing this AD to prevent loss of the ISIS, which, if combined with loss of all EIS display units, could reduce the flightcrew's situational awareness and contribute to loss of control of the airplane or impact with obstacles or terrain. This AD requires regularly performing a complete electrical shutdown of the airplane to reset the ISIS. This AD also provides an option for replacing the existing ISIS with an improved ISIS, which constitutes terminating action for the requirement to regularly perform a complete electrical shutdown.

Differences Between the AD and French Emergency Airworthiness Directive

This AD differs from the French emergency airworthiness directive in that this AD does not allow resetting the circuit breaker as a means of resetting the ISIS. This AD instead requires a complete electrical shutdown of the airplane, which the French emergency airworthiness directive provides as an alternative means of resetting the ISIS. The decision to not allow resetting the circuit breaker is based on FAA policy that pulling circuit breakers is not an acceptable means of routinely removing electrical power from airplane systems. This policy is based on the fact that use of a circuit breaker as a switch will degrade the ability of the circuit breaker to trip at its rated current trip point.

The applicability of French Emergency Airworthiness Directive UF-2004-167 excludes airplanes that accomplished Airbus Service Bulletin A330-34-3141, A340-34-4145, or A340-34-5016 in service. However, we have not excluded those airplanes in the applicability of this AD. Rather, this AD specifies that accomplishing the applicable service bulletin is an optional terminating action for the requirement to regularly reset the ISIS. This requirement ensures that the actions specified in this AD are accomplished on all affected airplanes.

Interim Action

We consider this AD interim action. We are currently considering requiring the optional terminating action specified in this AD, which eliminates the need to regularly perform a complete electrical shutdown of the airplane. However, the planned compliance time for this installation would allow enough time to provide notice and opportunity for public comment on the merits of the modification.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2004-19816; Directorate Identifier 2004-NM-231-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications with you. You can get more information about plain language at http://www/faa.gov/language and http://www.plainlanguage.gov.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-25-07 Airbus: Amendment 39-13895. Docket No. FAA-2004-19816; Directorate Identifier 2004-NM-231-AD.

Effective Date

(a) This AD becomes effective December 27, 2004.

Affected ADs

(b) None.

Applicability

(c) This AD applies to Airbus Model A330 and A340 series airplanes, certificated in any category; on which Airbus Modification 47244 (reference Airbus Service Bulletin A330-34-3120 or A340-34-4138) has been done, and on which Airbus Modification 52423 has not been done.

Unsafe Condition

(d) This AD was prompted by a report indicating that an airplane lost the integrated standby instrument system (ISIS), then, during the same flight, lost all electronic instrument system (EIS) display units. The FAA is issuing this AD to prevent loss of the ISIS, which, if combined with loss of all EIS display units, could reduce the flightcrew's situational awareness and contribute to loss of control of the airplane or impact with obstacles or terrain.

Compliance

(e) You are responsible for having the actions required by this AD performed within the compliance times specified, unless the actions have already been done.

Requirement for Complete Electrical Shutdown

(f) Within 3 days after the effective date of this AD, or within 5 days after the last ISIS reset or complete electrical shutdown of the airplane, whichever is first, perform a complete electrical shutdown of the airplane to reset the ISIS. Repeat the electrical shutdown of the airplane at intervals not to exceed 5 days, until the actions in paragraph (g) of this AD are done.

Note 1: This AD does not allow resetting the circuit breaker as a means of resetting the ISIS.

Optional Terminating Action

(g) Replacing the existing ISIS, part number (P/N) C16221DB04, with an improved ISIS, P/N C16221WA01, in accordance with Airbus Service Bulletin A330-34-3141 (for Airbus Model A330 series airplanes), A340-34-4145 (for Airbus Model A340-200 and -300 series airplanes), or A340-34-5016 (for Airbus Model A340-541 and -642 airplanes); all dated June 8, 2004; as applicable; terminates the requirements of paragraph (f) of this AD.

Note 2: Airbus Service Bulletins A330-34-3141, A340-34-4145, and A340-34-5016 refer to Thales Service Bulletin C16221D-34-002 as an additional source of service information.

Alternative Methods of Compliance (AMOCs)

(h) The Manager, International Branch, ANM-116, Transport Airplane Directorate, FAA, has the authority to approve AMOCs for this AD, if requested in accordance with the procedures found in 14 CFR 39.19.

Related Information

(i) French Emergency Airworthiness Directive UF-2004-167, dated October 19, 2004, also addresses the subject of this AD.

Material Incorporated by Reference

(j) If the optional terminating action in paragraph (g) of this AD is accomplished, you must use Airbus Service Bulletin A330-34-3141, dated June 8, 2004; Airbus Service Bulletin A340-34-4145, dated June 8, 2004; or Airbus Service Bulletin A340-34-5016, dated June 8, 2004; as applicable; to perform the actions that are specified in paragraph (g) of this AD. The Director of the Federal Register approves the incorporation by reference of these document in accordance with 5 U.S.C. 552(a) and 1 CFR part 51. For copies of the service information, contact Airbus, 1 Rond Point Maurice Bellonte, 31707 Blagnac Cedex, France. You can review copies at the Docket Management Facility, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Issued in Renton, Washington, on November 30, 2004.
Ali Bahrami,
Manager, Transport Airplane Directorate, Aircraft Certification Service.

[FR Doc. 04-26791 Filed 12-8-04; 8:45 am]

BILLING CODE 4910-13-P